DEPARTMENT OF HOMELAND SECURITY

Coast Guard

33 CFR Part 165

[Docket No. USCG-2021-077]

Safety Zone; Monte Foundation Fireworks, Capitola Pier, Capitola, CA

AGENCY: Coast Guard, Department of Homeland Security (DHS).

ACTION: Notification of enforcement of regulation.

SUMMARY: The Coast Guard will enforce the safety zone for the Monte Foundation Fireworks Display in the Captain of the Port, San Francisco area of responsibility during the dates and times noted below. This action is necessary to protect life and property of the maritime public from the hazards associated with the fireworks display. During the enforcement period, unauthorized persons or vessels are prohibited from entering into, transiting through, or anchoring in the safety zone, unless authorized by the Patrol Commander (PATCOM) or other Federal, state, or local law enforcement agencies on scene to assist the Coast Guard in enforcing the regulated area.

DATES: The regulation in 33 CFR 165.1191, will be enforced for the location in Table 1 to § 165.1191, Item number 22, from 8:00 p.m. to 8:20 p.m. on October 10, 2021.

FOR FURTHER INFORMATION CONTACT: If you have questions about this notification of enforcement, call or email Lieutenant Anthony Solares, Waterways Management, U.S. Coast Guard Sector San Francisco; telephone (415) 399-3585, email SFWaterways@uscg.mil.

SUPPLEMENTARY INFORMATION: The Coast Guard will enforce the safety zone established in 33 CFR 165.1191, Table 1, Item number 22, for the Monte Foundation Fireworks Display from 8:00 p.m. to 8:20 p.m. on October 10, 2021. The Captain of the Port has delegated the authority to issue the notification of enforcement for this regulation to the Prevention Department Head.

The safety zone will extend to all navigable waters around the land-based launch site at the Capitola Pier in Capitola, CA. During the 20-minute fireworks display, scheduled to begin at approximately 8:00 p.m. on October 10, 2021, the safety zone will encompass navigable waters around and under the fireworks launch site within a radius of 1,000 feet in approximate position 36°58′10″ N, 121°57′12″ W (NAD 83) for the Monte Foundation Fireworks Display.

This safety zone will be enforced from 8:00 p.m. until 8:20 p.m. on October 10, 2021, or as announced via Broadcast Notice to Mariners. In addition to this notification of enforcement in the Federal Register, the Coast Guard plans to provide notification of this enforcement period via the Local Notice to Mariners.

Under the provisions of 33 CFR 165.1191, unauthorized persons or vessels are prohibited from entering into, transiting through, or anchoring in the safety zone during all applicable effective dates and times, unless authorized to do so by the PATCOM or other Official Patrol defined as a federal, state, or local law enforcement agency on scene to assist the Coast Guard in enforcing the regulated area. Additionally, each person who receives notice of a lawful order or direction issued by the PATCOM or Official Patrol shall obey the order or direction. The PATCOM or Official Patrol may, upon request, allow the transit of commercial vessels through regulated areas when it is safe to do so.

If the Captain of the Port determines that the regulated area need not be enforced for the full duration stated in this notification, a Broadcast Notice to Mariners may be used to grant general permission to enter the regulated area.

Dated: October 4, 2021.
Hale A. Allegretti,
Commander, U.S. Coast Guard, Prevention Department Head, Sector San Francisco.

[FR Doc. 2021-22001 Filed 10-7-21; 8:45 am]

BILLING CODE 9110-04-P